DEPARTMENT OF TRANSPORTATION

Federal Aviation Administration

14 CFR Part 91

[Docket No.: FAA-2015-1746; Notice No. 15-05]

RIN 2120-AK54

Changes to the Application Requirements for Authorization to Operate in Reduced Vertical Separation Minimum Airspace

AGENCY: Federal Aviation Administration (FAA), DOT.

ACTION: Notice of proposed rulemaking (NPRM).

SUMMARY: This action would revise the FAA's requirements for an application to operate in Reduced Vertical Separation Minimum (RVSM) airspace. This proposal would eliminate the burden and expense of developing, processing, and approving RVSM maintenance programs. As a result of this proposed revision, an applicant to operate in RVSM airspace would no longer be required to develop and submit an RVSM maintenance program solely for the purpose of an RVSM authorization. Because of other, independent FAA airworthiness regulations, all aircraft operators would nevertheless continue to be required to maintain RVSM equipment in an airworthy condition.

DATES: Send comments on or before July 27, 2015.

ADDRESSES: Send comments identified by docket number FAA-2015-1746 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to Docket Operations in Room W12-140 of the West Building Ground Floor at 1200 New Jersey Avenue SE., Washington, DC, between 9 a.m. and 5 p.m., Monday through Friday, except Federal holidays.

FOR FURTHER INFORMATION CONTACT: For technical questions concerning this action, contact Charles Fellows, Aviation Safety Inspector, Avionics Branch, Aircraft Maintenance Division, Flight Standards Services, AFS-360, Federal Aviation Administration, 950 L'Enfant Plaza North SW., Washington, DC 20024; telephone (202) 267-1706; email Charles.Fellows@faa.gov.

For legal questions concerning this action, contact Benjamin Jacobs, Attorney-Advisor, Office of Chief Counsel, AGC-200, Federal Aviation Administration, 800 Independence Ave. SW., Washington, DC 20591; telephone (202) 267-7240; email Benjamin.Jacobs@faa.gov.

SUPPLEMENTARY INFORMATION:

Authority for This Rulemaking

The FAA's authority to issue rules regarding aviation safety is found in Title 49 of the United States Code. Sections 106(f), 40113, and 44701 authorize the FAA Administrator to prescribe regulations necessary for aviation safety. Section 40103 authorizes the Administrator to prescribe regulations to enhance the efficiency of the national airspace. This rulemaking is within the scope of these authorities because it would remove existing safety and airspace-related regulations that the FAA no longer finds necessary to protect aviation safety.

I. Executive Summary

A. Summary of Proposed Rule

This Notice of Proposed Rulemaking (NPRM) proposes to remove the requirement in Appendix G of part 91 of Title 14 of the Code of Federal Regulations (14 CFR) that any operator seeking Reduced Vertical Separation Minimum (RVSM) authorization must develop and submit an RVSM maintenance program for FAA approval. Currently, any applicant for RVSM authorization must include such a program as part of the application. This requirement was first promulgated in 1997, when most aircraft required significant design changes or inspections to qualify for RVSM operation. The FAA, therefore, required operators to submit for FAA approval a detailed plan for the maintenance of RVSM systems and equipment. Since then, RVSM operations have become much more common. RVSM systems are now incorporated into aircraft type designs or supplemental type designs, and operators must properly maintain those systems as part of their airworthiness obligations.

In light of these developments, the requirement that RVSM applicants submit specialized maintenance plans to the FAA is no longer necessary. Eliminating this requirement would reduce both operators' costs and FAA workload, while maintaining the existing high level of safety.

B. Summary of Costs and Benefits

This proposed rulemaking is a retrospective regulatory review. Because the RVSM maintenance plan requirement is no longer necessary, this proposed rulemaking would eliminate the considerable burden and expense of developing, processing, and approving RVSM maintenance programs. The proposed rulemaking, therefore, promotes cost savings for both part 91 operators and the FAA. The total cost savings are estimated to be $76.1 million over a five-year period ($66.8 million present value).

II. Background

A. Scope of the Problem

As RVSM technology has become integral to the design of aircraft capable of flying in RVSM airspace, the current requirement that any aircraft operator seeking RVSM authorization must submit an RVSM maintenance plan to the FAA is no longer necessary. More specifically, now that RVSM technology is incorporated into aircraft type designs, the FAA's airworthiness and maintenance regulations require any operator of an aircraft incorporating that technology to maintain the RVSM equipment in a condition for safe operation. The FAA, with input from industry, has determined that eliminating the redundant maintenance plan component of RVSM authorization will improve efficiency and reduce costs for both the agency and operators.

B. History of Vertical Separation Standards

Vertical separation standards establish the vertical distance that must separate aircraft routes in the national airspace system. In the early 1970's, rising air-traffic volume and fuel costs sparked an interest in reducing vertical separation standards for aircraft operating above flight level (FL) 290. Above 18,000 feet, flight levels are a measure of altitude assigned in 500-feet increments; FL290 represents an altitude of 29,000 feet. At the time, the FAA required aircraft operating above FL290 to maintain a minimum of 2000 ft. of vertical separation between routes. These high-altitude routes were desirable, because the diminished atmospheric drag at high altitudes results in a corresponding decrease in fuel consumption. Operators, therefore, sought and continue to seek not only the most direct routes, but also the most efficient altitudes for their aircraft. Higher demand for these high-altitude routes resulted in greater congestion.

In 1973, the Air Transport Association of American petitioned the FAA to reduce the vertical separation of high altitude routes to 1000 feet. The FAA denied the petition in 1977, in part, because of insufficient standards and technology, including aircraft altitude-keeping standards, maintenance and operational standards, and altitude correction technology. In mid-1981, however, the FAA initiated the Vertical Studies Program. This program, in conjunction with the RTCA (formerly the Radio Technical Commission for Aeronautics) Special Committee (SC)-150 and the International Civil Aviation Organization (ICAO) Review of General Concept of Separation Panel (RGCSP), determined:

• RVSM was “technically feasible without imposing unreasonably demanding technical requirements on the equipment”;

• RVSM could provide “significant benefits in terms of economy and en-route airspace capacity”; and

• Implementation of RVSM would require “sound operational judgment supported by an assessment of system performance based on: aircraft altitude-keeping capability, operational considerations, system performance monitoring, and risk assessment.” ¹

¹ Reduced Vertical Separation Minimum Operations, 62 FR 17480, 17481 (Apr. 9, 1997).

Following these determinations, the FAA began a two-phase implementation of RVSM operations for aircraft registered in the United States (U.S.). In 1997, in the first phase, the FAA published two amendments to part 91 of 14 CFR. The first amendment added appendix G (Operations in Reduced Vertical Separation Minimum (RVSM) Airspace), containing a set of operational, aircraft design, and other standards applicable to operators and those seeking to operate in RVSM airspace. Among other things, appendix G requires all applicants for RVSM authorization to submit to the FAA an approved RVSM maintenance plan. In addition, the FAA promulgated § 91.706 (Operations within airspace designed as Reduced Vertical Separation Minimum Airspace), which, among other things, allows operators of U.S.-registered aircraft to fly in RVSM airspace outside of the U.S., in accordance with the requirements of appendix G.

The second phase of RVSM implementation occurred in October 2003, with a second RVSM-related FAA rulemaking. The 2003 rule introduced RVSM airspace over the U.S. and, like the 1997 rulemaking, requires all U.S.-registered RVSM operators to comply with the application, operations, and aircraft design requirements of part 91, appendix G.² The FAA's RVSM program allows for 1000 feet of vertical separation for aircraft between FL290 and FL410. Before the 2003 rule, air traffic controllers could only assign Instrument Flight Rules (IFR) aircraft flying at FL290 and above to FL290, 310, 330, 350, 370, 390, and 410 because the existing vertical separation standard was 2000 feet. After the rule changes, IFR aircraft could also fly at FL300, 320, 340, 360, 380, and 400—nearly doubling capacity within this particular segment of airspace. The changes both mitigated the fuel penalties attributed to flying at sub-optimum altitudes, and increased the flexibility of air traffic control.

² Reduced Vertical Separation Minimum in Domestic Airspace, 68 FR 61304 (Oct. 27, 2003).

In 2008, the FAA reviewed its RVSM program and operator authorization policies. At the time, the FAA database contained more than 7,000 active RVSM authorizations, covering in excess of 15,000 U.S.-registered aircraft. The FAA's evaluation found the existing processes ensured compliance with the RVSM operating requirements.

At the same time, FAA representatives began meeting with the National Business Aviation Association (NBAA) to develop ways to streamline the RVSM application process to lower operators' burden to obtain authorization and reduce the FAA's workload associated with processing and granting authorizations. The parties formed the RVSM Process Enhancement Team (PET), tasking it to focus on changes that could be accomplished without rulemaking. The PET completed its tasks in 2013. Among other things, it revised existing policies and guidance to facilitate more efficient processing of operators' requests to change existing authorizations, and created a job aid to assist inspectors and standardize their review of operator applications.

III. Discussion of the Proposal

This proposed rulemaking would address another element identified by the PET: reducing the burden on part 91 operators to create and obtain approval of an RVSM-specific maintenance program. The PET could not address this issue because the workgroup's charter limited the PET to changes that could be made through guidance and without rulemaking action. However, both the FAA and the NBAA agreed that RVSM-related airworthiness standards, applicable to all part 91 operators, should be treated more like other, substantially similar aircraft maintenance requirements, while maintaining an equivalent level of safety.

Under current requirements, section 3 (Operator Authorization) of appendix G contains application requirements for an operator seeking RVSM authorization. As described above, this section requires any RVSM applicant to develop and submit for FAA approval an RVSM maintenance program. The program must outline service and maintenance procedures and include acceptable maintenance practices, a quality assurance program for test equipment, and procedures for return to service.

During the early implementation of RVSM, most aircraft required upgrades, modifications, or the application of service bulletins to meet the FAA's RVSM system safety standards. In 1997, requiring operators to create RVSM maintenance programs was essential to ensure that operators satisfied these standards and, by extension, the continued airworthiness of their aircraft. Today, however, nearly 17 years since first implementation, RVSM systems are the standard among aircraft capable of operating between FL290 and FL410. Additionally, most RVSM-capable aircraft are either newly built or have been modified, under a supplemental type certificate, to meet RVSM performance requirements by original design. All of these aircraft designs have Instructions for Continued Airworthiness (ICA)—maintenance instructions to which aircraft operators must adhere—providing operators with detailed instructions for maintaining any RVSM equipment. And, most importantly, the continued airworthiness of RVSM-capable aircraft is also ensured by the FAA's airworthiness regulations, which require operators to maintain each aircraft in accordance with its type design and in a condition for safe operation.

The specific terms of the FAA's maintenance requirements vary according to the type of operator involved. Commercial operators are required to use a structured, organizational approach to maintenance that may include named oversight personnel, manuals, and an FAA-approved maintenance program. Both currently and under this proposal, these maintenance programs must account for the maintenance of RVSM equipment. On the other hand, non-commercial operators—such as those operating privately—are not required to create an organizational maintenance structure, but are instead required (both currently and if this proposal goes into effect) to have their aircraft inspected in accordance with part 91, and to have repairs executed in accordance with part 43. Ultimately, all operators' RVSM-related obligations under these airworthiness regulations are substantially identical to the independent maintenance requirements of section 3 of appendix G. The FAA has determined, therefore, that an independent requirement to develop and submit RVSM-specific maintenance programs for FAA approval is no longer necessary or justified.

In light of the foregoing, the FAA proposes to revise section 3 of appendix G by removing the requirement that an applicant submit an approved RVSM maintenance program, currently codified as § 3(b)(1)-(3). The FAA proposal would reserve § 3(b)(1) and leave in place the other application-related requirements and paragraphs. The FAA does not intend for this proposal to affect the other elements of an application for RVSM authorization.

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

DOT Order 2100.5 prescribes policies and procedures for simplification, analysis, and review of regulations. Because this proposed rulemaking is a retrospective regulatory review, the expected outcome would be a cost savings with positive net benefits. The FAA has, therefore, determined that this proposed rule is not a “significant regulatory action” as defined in section 3(f) of Executive Order 12866, and is not “significant” as defined in DOT's Regulatory Policies and Procedures. The FAA requests comments with supporting justification about the FAA determination of the proposed rule providing a cost savings. The reasoning for this determination follows:

This proposed rulemaking would remove the requirement in Appendix G of part 91 that operators seeking RVSM authorization must develop and submit an RVSM maintenance plan for FAA approval. It would eliminate the considerable burden and expense to operators and FAA safety inspectors of developing, processing, and approving RVSM maintenance plans.

When the current requirement was established, RVSM systems were yet to be incorporated into aircraft type design. This is no longer the case. RVSM systems are now incorporated into aircraft type designs and supplemental type designs, and operators must properly maintain these systems as part of their airworthiness obligation. In light of these developments, the requirement in Appendix G of part 91 for RVSM applicants to submit specialized maintenance plans is redundant.

To quantify the relief to part 91 operators and FAA safety inspectors from the streamlining of regulations, the FAA has estimated three variables, which are: (1) The number of RVSM maintenance programs approved for calendar year (CY) 2014, (2) the costs per operator of submitting an RVSM maintenance program for FAA approval, and (3) the average number of hours expended by an FAA safety inspector to review and approve an RVSM maintenance program. The value for each of these variables is shown below.

CY 2014—Number of maintenance programs submitted to FAA for approval ³ | Operator cost for submitting a maintenance program to the FAA for approval ⁴ | Hours expended by FAA safety inspectors reviewing maintenance programs for approval ⁵
2,821 | $5,000 ⁶ | 12

Applying these estimates, the FAA anticipates that operators would experience cost savings of approximate $14.1 million in year one of implementation. We calculated this figure by multiplying the estimated number of maintenance approvals submitted to the FAA during CY 2014 (2,821 approvals) by each operator's cost for submitting a RVSM maintenance program to the FAA for approval ($5,000).

³ FAA National Program Tracking and Reporting Subsystem (NPTRS). Actual data was available through October. Estimates were made for November and December.

⁴ National Business Aviation Association—Part 91 Operator Cost for Submitting an RVSM Approval.

⁵ FAA Safety Inspectors involved in RVSM authorization processing at FAA Flight Standards District Offices (FSDO).

⁶ This amount consists of $3,123 in operator costs for submitting an application form and supporting documentation to a RVSM manual preparation service, and then reading, understanding, signing, and submitting the completed RVSM maintenance program manual to the FAA for approval. The remaining $1,977 is an approximation of the amount paid by an operator for RVSM manual preparation services. The estimate of $1,977 is an average of quotes provided on the Internet by seven companies providing this service. These seven quotes ranged from $795 to $3,850.

In addition to the cost savings realized by operators, eliminating the requirement would free 33,852 hours for FAA safety inspectors to perform alternative tasks during year one of implementation. The hours are calculated by multiplying the average number of hours FAA safety inspectors expend reviewing and approving each RVSM maintenance program submitted (12 hours) by the number of RVSM maintenance program approvals estimated for CY 2014 (2,821 approvals). The annual cost savings of $1.1 million to the FAA equals the 33,852 hours multiplied by the FAA fully-burdened wage of $33.06.⁷

⁷ 2014 General Schedule Salary Table as published by the U. S. Office of Personnel Management. The salary used for calculating costs savings is the fully-burdened hourly wage for a GS 12 Step 5, which is the mid-range salary for this position.

Based on these calculations, the cost savings to operators during the first five years of the rule's implementation would be approximately $70.5 million ($61.9 million present value), and the FAA cost savings would total $5.6 million ($4.9 million present value). The results are presented below.

Cost Savings Due to Proposed Rule—Millions of $
| 2014 | 2015 | 2016 | 2017 | 2018 | Total
Operator Cost Savings | $14.1 | $14.1 | $14.1 | $14.1 | $14.1 | $70.5
Present Value 7%—(Millions of $) | 14.1 | 13.2 | 12.3 | 11.5 | 10.8 | 61.9
FAA Cost Savings | 1.1 | 1.1 | 1.1 | 1.1 | 1.1 | 5.6
Present Value 7%—(Millions of $) | 1.1 | 1.0 | 1.0 | 0.9 | 0.9 | 4.9
Note: Details may not add due to rounding.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.”

The RFA covers a wide-range of small entities, including small businesses, not-for-profit organizations, and small governmental jurisdictions. Agencies must perform a review to determine whether a rule will have a significant economic impact on a substantial number of small entities. If an agency anticipates such an impact, the agency must prepare a regulatory flexibility analysis as described in the RFA. Section 603 of the RFA requires agencies to prepare and make available for public comment an initial regulatory flexibility analysis (IRFA) describing the impact of proposed rule on small entities. This rule is relieving. The FAA is issuing this rule to eliminate duplicative requirements. The FAA estimates that this rule would reduce firm's costs by $5,000 to develop and submit an RVSM maintenance plan. Under Section 603(b), this initial analysis must account for the following issues, which are addressed below:

• Description of Reasons the Agency Is Considering the Action

All part 91 operator RVSM-related obligations are required by FAA airworthiness regulations to maintain RVSM equipment in an airworthy condition. Thus, the requirement in section 3 of Appendix G, that operators seeking RVSM authorization to develop and submit an RVSM maintenance plan for FAA approval342 is redundant. The FAA estimates that the removal of this redundant requirement will save each affected small entity $5,000 per RVSM authorization.

• Statement of the Legal Basis and Objectives for the Proposed Rule

The FAA's authority to issue rules regarding aviation safety is found in 49 U.S.C. Sections 106, 40113, and 44701 therein authorize the FAA Administrator to prescribe regulations necessary for aviation safety. Section 40103 authorizes the Administrator to prescribe regulations to enhance the efficiency of the national airspace. This rulemaking is within the scope of these authorities because it removes existing safety and airspace-related regulations that the FAA no longer finds necessary to protect aviation safety.

• Description of the Recordkeeping and Other Compliance Requirements of the Proposed Rule

The Paperwork Reduction Act of 1995 (44 U.S.C. 3507(d)) requires that the FAA consider the impact of paperwork and other information collection burdens imposed on the public. The FAA has determined that there would be no new requirement for information collection associated with this proposed rule.

• All Federal Rules That May Duplicate, Overlap, or Conflict With the Proposed Rule

The FAA is not aware of any Federal rules that would duplicate, overlap or conflict with this proposed change. This rule would reduce duplicative requirements saving firms about $5,000.

• Description and an Estimated Number of Small Entities to Which the Proposed Rule Would Apply

Under the RFA, the FAA must determine whether a proposed rule significantly affects a substantial number of small entities. This determination is typically based on small entity size and revenue thresholds that vary depending on the affected industry.⁸ In most cases, the FAA cannot determine the size of part 91 operators because financial and employment data for privately held entities is sparse. Nevertheless, we believe the number of small business entities is substantial.

⁸ Thresholds are based on the North American Industry Classification System (NAICS). The NAICS is the standard used by Federal statistical agencies in classifying business establishments for the purpose of collecting, analyzing, and publishing statistical data related to the U.S. business economy.

• Alternatives Considered

Alternative 1: Do Nothing.

Analysis: Without changes to Appendix G of part 91, any operator seeking RVSM authorization would continue to be required to develop and submit an RVSM maintenance program. A non-commercial operator with no requirement to hold a maintenance program for any other performance-based authorization would nevertheless be required to develop and obtain FAA approval of an RVSM maintenance program—despite the fact that the operator is already required by FAA regulations to maintain RVSM equipment in accordance with its type designation and in a condition for safe operation. Furthermore, the review and approval of this information would continue to consume FAA resources.

Alternative 2: Replace the current Appendix G requirement that operators include an “approved RVSM maintenance program” with a requirement that operators “identify practices” for the maintenance of RVSM equipment

Analysis: Relaxing Appendix G application requirements to allow operators to “identify practices” for the maintenance of RVSM equipment would allow a non-commercial operator to cite the applicable manufacturer's maintenance manual or instructions for continued airworthiness. This alternative would likely reduce the time and resources spent by operators and the FAA in compiling and reviewing RVSM applications. This alternative is undesirable, however, because it fails to address the absence of any safety benefits associated with continuing to require RVSM maintenance programs as a component of an RVSM application.

If an agency determines that a rulemaking will not result in a significant economic impact on a substantial number of small entities, the head of the agency may so certify under section 605(b) of the RFA. This rule would eliminate an existing duplicative requirement. In doing so, this rule would, reduce a firm's costs by $5,000; hence the rule reduces costs. Therefore, as provided in section 605(b), the head of the FAA certifies that this rulemaking will not result in a significant economic impact on a substantial number of small entities because this rule is cost relieving.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this proposed rule and determined that it would have the same impact on domestic and international entities and thus has a neutral trade impact.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151.0 million in lieu of $100 million. This proposed rule does not contain such a mandate; therefore, the requirements of Title II of the Act do not apply.

E. Paperwork Reduction Act

The Paperwork Reduction Act (PRA) of 1995 (44 U.S.C. 3507(d)) requires the FAA to consider the impact of paperwork and other information collection burdens imposed on the public. The FAA has determined no PRA requirement for information collection associated with this proposed rule. Specifically, the cost of preparing and obtaining approval of a maintenance program was never evaluated as a paperwork burden in the original PRA Supporting Statement of RVSM (OMB Control no. 2120-0679).

F. International Compatibility and Cooperation

(1) In keeping with U.S. obligations under the Convention on International Civil Aviation, it is FAA policy to conform to International Civil Aviation Organization (ICAO) Standards and Recommended Practices to the maximum extent practicable. The FAA has reviewed the corresponding ICAO Standards and Recommended Practices and has identified no differences with these proposed regulations.

(2) Executive Order 13609, Promoting International Regulatory Cooperation, promotes international regulatory cooperation to meet shared challenges involving health, safety, labor, security, environmental, and other issues, and to reduce, eliminate, or prevent unnecessary differences in regulatory requirements. The FAA has analyzed this action under the policies and agency responsibilities of Executive Order 13609, and has determined that this action would have no effect on international regulatory cooperation.

G. Environmental Analysis

FAA Order 1050.1E identifies FAA actions that are categorically excluded from preparation of an environmental assessment or environmental impact statement under the National Environmental Policy Act in the absence of extraordinary circumstances. The FAA has determined this rulemaking action qualifies for the categorical exclusion identified in paragraph 312d (regulatory documents covering administrative or procedural requirements) and involves no extraordinary circumstances.

V. Executive Order Determinations

A. Executive Order 13132, Federalism

The FAA has analyzed this proposed rule under the principles and criteria of Executive Order 13132, Federalism. The agency has determined that this action would not have a substantial direct effect on the States, or the relationship between the Federal Government and the States, or on the distribution of power and responsibilities among the various levels of government, and, therefore, would not have Federalism implications.

B. Executive Order 13211, Regulations That Significantly Affect Energy Supply, Distribution, or Use

The FAA analyzed this proposed rule under Executive Order 13211, Actions Concerning Regulations that Significantly Affect Energy Supply, Distribution, or Use (May 18, 2001). The agency has determined that it would not be a “significant energy action” under the executive order and would not be likely to have a significant adverse effect on the supply, distribution, or use of energy.

VI. Additional Information

A. Comments Invited

The FAA invites interested persons to participate in this rulemaking by submitting written comments, data, or views. The agency also invites comments relating to the economic, environmental, energy, or federalism impacts that might result from adopting the proposals in this NPRM. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Proprietary or Confidential Business Information: Commenters should not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under DOT procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing this proposed rule, including economic analyses and technical reports, may be accessed from the Internet through the Federal eRulemaking Portal referenced in item (1) above.

List of Subjects in 14 CFR Part 91

Air traffic control, Aircraft, Aviation safety.

The Proposed Amendment

In consideration of the foregoing, the Federal Aviation Administration proposes to amend chapter I of title 14, Code of Federal Regulations as follows:

PART 91—GENERAL OPERATING AND FLIGHT RULES

1. The authority citation for part 91 continues to read as follows:

Authority: 49 U.S.C. 106(f), 106(g), 1155, 40103, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Amend Appendix G, Section 3 by removing and reserving paragraph (b)(1).

Issued under authority provided by 49 U.S.C. 106(f), 40113 and 44701 in Washington, DC, on May 20, 2015.
John S. Duncan,
Director, Flight Standards Service.

[FR Doc. 2015-12816 Filed 5-27-15; 8:45 am]

BILLING CODE 4910-13-P